DEPARTMENT OF TRANSPORTATION

Surface Transportation Board

[Docket No. AB 156 (Sub-No. 27X)]

Delaware and Hudson Railway Company, Inc.—Discontinuance of Trackage Rights Exemption—in Broome County, NY, Middlesex, Essex, Union, Somerset, Hunterdon, and Warren Counties, NJ, Cumberland, Chester, Luzerne, Perry, York, Lancaster, Northampton, Lehigh, Carbon, Berks, Montgomery, Northumberland, Dauphin, Lebanon, and Philadelphia Counties, PA, Cecil, Harford, Baltimore, Anne Arundel, and Prince George's Counties, and Baltimore City, MD, the District of Columbia, Arlington County, and the City of Alexandria, VA

Delaware and Hudson Railway Company, Inc. (D&H), a wholly-owned indirect subsidiary of Canadian Pacific Railway Company, has filed a verified notice of exemption under 49 CFR pt. 1152 subpart F—Exempt Abandonments and Discontinuances of Service to discontinue its overhead and local trackage rights over approximately 670 miles of rail line (the Lines) owned and/or operated by Norfolk Southern Railway Company, Reading Blue Mountain and Northern Railroad Company, CSX Transportation, Inc., Consolidated Rail Corporation, Wilkes-Barre Connecting Railroad Company, Pocono Northeast Railway, Inc., and National Railroad Passenger Corporation.¹ The Lines are located: (1) In Binghamton, N.Y., (2) in Wilkes-Barre, Pa., (3) between Hudson (Plains), Pa., and Buttonwood, Pa., (4) between Sunbury, Pa., and Harrisburg, Pa., (5) between Harrisburg and Potomac Yard, Va., via Perryville, Md., (6) between Harrisburg and Philadelphia, Pa., via Reading, Pa., (7) between Reading and Allentown, Pa., (8) between Dupont, Pa., and Allentown, and (9) between Allentown and Oak Island, N.J.

¹ This is a republication of the notice of exemption originally served and published in the Federal Register on April 8, 2015 (80 FR 18,937). This notice contains corrected information.

The Lines traverse United States Postal Service Zip Codes as follows: (1) Pennsylvania—17110, 17020, 17053, 17025, 17011, 17043, 17070, 17319, 17370, 17345, 17347, 17406, 17547, 17512, 17582, 17516, 17565, 17532, 17518, 17563, 17101, 17102, 17104, 17113, 17057, 17502, 17801, 17823, 17830, 17017, 17061, 17032, 17018, 17112, 18240, 18229, 18235, 18071, 18080, 18088, 18059, 18067, 18052, 18032, 18109, 18018, 18015, 18042, 18103, 18049, 18062, 18011, 19539, 19562, 19530, 19522, 19510, 19605, 19604, 19601, 19602, 19606, 19508, 19518, 19464, 19468, 19460, 19406, 19428, 19035, 19072, 19004, 19131, 19121, 19147, 19148, 19145, 19112, 17103, 17111, 17036, 17033, 17078, 17042, 17046, 17067, 17087, 17073, 19567, 19551, 19565, 19608, 19609, 19610, 19611, 18641, 18640, 18702, 18706, 18707, 18661, 18701, 18704, 18705, 17003, 17034, 17105, 17121, 18030, 18037, 18055, 18101, 18102, 19103, 19104, 19130, 19146, 19405, 19560, and 19607; (2) Maryland—21918, 21904, 21903, 21078, 21001, 21040, 21010, 21220, 21221, 21237, 21224, 21205, 21201, 21217, 21223, 21229, 21227, 21090, 21076, 21240, 21077, 21144, 21113, 20755, 20715, 20720, 20769, 20706, 20784, 20785, 20743, 21085, 21213, 21202, and 21216; (3) District of Columbia—20003, 20019, 20024, 20472, 20260, and 20585; (4) Virginia—22202, 22301, and 22314; (5) New Jersey—07105, 07114, 07112, 07205, 07083, 07204, 07203, 07016, 07027, 07090, 07076, 07023, 07062, 07060, 07063, 08812, 08846, 08805, 08807, 08835, 08844, 08853, 08822, 08887, 08801, 08867, 08827, 08802, 08804, 08865, 08821, 08854, 07080, 08820, 07066, 08826, 08829, 08801, 08833, 08889, 08876, 08869, 07036, 07202, 07206, and 07201; and (6) New York—13790, 13901, 13905, 13795, and 13904.

D&H has certified that (1) no local traffic has moved over the Lines for at least two years; (2) any overhead traffic can be rerouted over other lines; (3) no formal complaint filed by a user of rail service on the Lines (or by a state or local government entity acting on behalf of such user) regarding cessation of service on the Lines either is pending with the Board or with any U.S. District Court or has been decided in favor of complainant within the two-year period; and (4) the requirements at 49 CFR 1105.12 (newspaper publication), and 49 CFR 1152.50(d)(1) (notice to governmental agencies) have been met.²

² D&H made these certifications in its verified notice of exemption filed March 19, 2015. In a supplement filed June 15, 2015, D&H amended its verified notice, providing corrected information and stating that it is republishing the newspaper notices and providing corrected notices to the governmental agencies to which notice is required under 49 CFR 1152.50(d)(1).

As a condition to this exemption, any employee adversely affected by the discontinuance shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) to subsidize continued rail service has been received, this exemption will be effective on August 4, 2015, unless stayed pending reconsideration. Petitions to stay that do not involve environmental issues and formal expressions of intent to file an OFA to subsidize continued rail service under 49 CFR 1152.27(c)(2) ³ must be filed by July 13, 2015. Petitions to reopen must be filed by July 22, 2015, with the Surface Transportation Board, 395 E Street SW., Washington, DC 20423-0001.⁴

³ Each OFA must be accompanied by the filing fee, which currently is set at $1,600. See 49 CFR 1002.2(f)(25).

⁴ The Board intends to address pleadings previously filed in this proceeding in a separate decision.

A copy of any petition filed with the Board should be sent to D&H's representative: W. Karl Hansen, Stinson Leonard Street LLP, 150 South Fifth Street, Suite 2300, Minneapolis, MN 55402.

If the verified notice contains false or misleading information, the exemption is void ab initio.

Board decisions and notices are available on our Web site at WWW.STB.DOT.GOV.

Decided: June 29, 2015.
By the Board, Joseph H. Dettmar, Acting Director, Office of Proceedings.
Raina S. Contee,
Clearance Clerk.

[FR Doc. 2015-16361 Filed 7-1-15; 8:45 am]

BILLING CODE 4915-01-P